DEPARTMENT OF COMMERCE

International Trade Administration

[A-570-992]

Monosodium Glutamate From the People's Republic of China: Second Amended Final Determination of Sales at Less Than Fair Value and Amended Antidumping Duty Order

AGENCY: Enforcement and Compliance, International Trade Administration, Department of Commerce.

SUMMARY: On November 26, 2014, the Department of Commerce (“the Department”) published the First Amended Final Determination in the Federal Register. We are amending our First Amended Final Determination to correct a ministerial error and amending the order to reflect the rates in the second amended final determination.¹

¹ See Monosodium Glutamate from the People's Republic of China, and the Republic of Indonesia: Antidumping Duty Orders; and Monosodium Glutamate from the People's Republic of China: Amended Final Determination of Sales at Less Than Fair Value, 79 FR 70505 (November 26, 2014) (“First Amended Final Determination”).

DATES: Effective Date: January 6, 2015.

FOR FURTHER INFORMATION CONTACT: Milton Koch or Jun Jack Zhao, AD/CVD Operations, Office VII, Enforcement and Compliance, International Trade Administration, U.S. Department of Commerce, 14th Street and Constitution Avenue NW., Washington, DC 20230; telephone: (202) 482-2584 or (202) 482-1396, respectively.

SUPPLEMENTARY INFORMATION:

Background

On September 29, 2014, the Department published the final determination of sales at less than fair value in the antidumping duty investigation of monosodium glutamate (“MSG”) from the People's Republic of China (“PRC”).² On November 26, 2014, the Department published its First Amended Final Determination in response to ministerial error allegations filed by Ajinomoto North America Inc. (“Petitioner”), the petitioner in this investigation, and Langfang Meihua Bio-Technology Co., Ltd., Tongliao Meihua Biological SCI-TECH Co., Ltd., Meihua Group International Trading (Hong Kong) Limited, Meihua Holdings Group Co., Ltd, and Meihua Holdings Group Co., Ltd, Bazhou Branch (collectively, “Meihua”, or the “Meihua Group”).³ In accordance with 19 CFR 351.224(b), the Department disclosed to interested parties the details of its calculations for the First Amended Final Determination on November 24, 2014. On November 25, 2014, Petitioner submitted a timely ministerial error allegation regarding the First Amended Final Determination and requested, pursuant to 19 CFR 351.224, that the Department correct the alleged ministerial error.

² See Monosodium Glutamate from the People's Republic of China: Final Determination of Sales at Less Than Fair Value and the Final Affirmative Determination of Critical Circumstances, 79 FR 58326 (September 29, 2014).

³ See First Amended Final Determination.

Scope of the Order

The scope of this order covers monosodium glutamate (MSG), whether or not blended or in solution with other products. Specifically, MSG that has been blended or is in solution with other product(s) is included in this scope when the resulting mix contains 15 percent or more of MSG by dry weight. Products with which MSG may be blended include, but are not limited to, salts, sugars, starches, maltodextrins, and various seasonings. Further, MSG is included in this order regardless of physical form (including, but not limited to, in monohydrate or anhydrous form, or as substrates, solutions, dry powders of any particle size, or unfinished forms such as MSG slurry), end-use application, or packaging.

MSG in monohydrate form has a molecular formula of C5H8NO4Na −H2O, a Chemical Abstract Service (CAS) registry number of 6106-04-3, and a Unique Ingredient Identifier (UNII) number of W81N5U6R6U. MSG in anhydrous form has a molecular formula of C5H8NO4Na, a CAS registry number of l42-47-2, and a UNII number of C3C196L9FG.

Merchandise covered by the scope of this order is currently classified in the Harmonized Tariff Schedule (“HTS”) of the United States at subheading 2922.42.10.00. Merchandise subject to the order may also enter under HTS subheadings 2922.42.50.00, 2103.90.72.00, 2103.90.74.00, 2103.90.78.00, 2103.90.80.00, and 2103.90.90.91. The tariff classifications, CAS registry numbers, and UNII numbers are provided for convenience and customs purposes; however, the written description of the scope is dispositive.

Amendment to the First Amended Final Determination

After analyzing Petitioner's allegation, we determine that, in accordance with section 735(e) of the Tariff Act of 1930, as amended, (“the Act”) and 19 CFR 351.224(e), a ministerial error was made that affects the Meihua margin calculation, the separate rates, and the PRC-wide entity rate.⁴ Specifically, the Department inadvertently failed to include the cost of steam in Meihua's ancillary operations regarding its MSG production. The amended estimated weighted-average dumping margins are as follows:

⁴ For a detailed discussion of the alleged ministerial error, as well as the Department's analysis, see Memorandum to Paul Piquado, Assistant Secretary for Enforcement and Compliance, from Gary Taverman, Associate Deputy Assistant Secretary for Antidumping and Countervailing Duty Operations, regarding, “Second Amended Final Determination of the Antidumping Duty Investigation of Monosodium Glutamate from the People's Republic of China: Allegation of Ministerial Errors,” dated concurrently with this notice.

Exporter | Producer | Weighted-average dumping margin (percent)
Langfang Meihua Bio-Technology Co., Ltd./Meihua Group International Trading (Hong Kong) Limited | Tongliao Meihua Biological SCI-TECH Co., Ltd./Meihua Holdings Group Co., Ltd., Bazhou Branch | 21.28 percent.
Fujian Province Jianyang Wuyi MSG Co., Ltd. | Fujian Province Jianyang Wuyi MSG Co., Ltd. | 21.28 percent.
Neimenggu Fufeng Biotechnologies Co., Ltd. | Neimenggu Fufeng Biotechnologies Co., Ltd. | 21.28 percent.
Baoji Fufeng Biotechnologies Co., Ltd. | Baoji Fufeng Biotechnologies Co., Ltd. | 21.28 percent.
PRC-wide Entity |  | 40.41 percent.

The PRC-wide entity includes Shandong Linghua Monosodium Glutamate Incorporated Company (Shandong Linghua), a mandatory respondent in this investigation.

Cash Deposit Requirements

In accordance with section 735(c)(1)(B) of the Act, we will instruct U.S. Customs and Border Protection (“CBP”) to continue to suspend liquidation on all entries of MSG from the PRC. We will instruct CBP to require cash deposits at rates equal to the estimated weighted-average dumping margins indicated above. Accordingly, effective November 17, 2014, the date of publication of the ITC's final affirmative injury determinations, CBP will require a cash deposit at rates equal to the estimated weighted-average dumping margins listed above. The relevant rate for the PRC-wide entity, as applicable, applies to all exporter and producer combinations not specifically listed. These cash deposits will remain in effect until further notice.

This notice constitutes the amended antidumping duty order with respect to MSG from the PRC. This second amended final determination is published in accordance with sections 735(e) and 777(i) of the Act.

Dated: December 30, 2014.
Paul Piquado,
Assistant Secretary for Enforcement and Compliance.

[FR Doc. 2014-30957 Filed 1-5-15; 8:45 am]

BILLING CODE 3510-DS-P